DEPARTMENT OF COMMERCE

National Oceanic and Atmospheric Administration

RIN 0648-XC234

New England Fishery Management Council; Public Meeting

AGENCY: National Marine Fisheries Service (NMFS), National Oceanic and Atmospheric Administration (NOAA), Commerce.

ACTION: Notice of a public meeting.

SUMMARY: The New England Fishery Management Council (Council) is scheduling a public meeting of its Recreational Advisory Panel to consider actions affecting New England fisheries in the exclusive economic zone (EEZ). Recommendations from this group will be brought to the full Council for formal consideration and action, if appropriate.

DATES: This meeting will be held on Wednesday, October 3, 2012 at 9 a.m.

ADDRESSES: The meeting will be held at the Holiday Inn, One Newbury Street, Peabody, MA 01960; telephone: (978) 535-4600; fax: (978) 535-8238.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Recreational Fishing Advisory Panel (RAP) will meet to discuss Northeast Multispecies management measures for fishing year 2013 and beyond. The panel will: Review FY 2011 catches and potential FY 2013 recreational allocations; receive a report on a model developed for crafting recreational measures; discuss potential recreational fishing measures for Gulf of Maine (GOM) cod, Georgs Bank (GB) cod, GOM haddock and other stocks; consider such measures as bag limits, minimum size adjustments, seasons or closed areas; consider using measures that differ between the party/charter and private fleets; discuss Annual Catch Limits (ACLs) and Accountability Measures (AMs) and may recommend changes to how these are implemented for the groundfish fishery; discuss commercial fishing activity in the inshore GOM and the possible effects it may have on recreational fishing opportunities. Other business may be discussed.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: September 11, 2012.
William D. Chappell,
Acting Deputy Director, Office of Sustainable Fisheries, National Marine Fisheries Service.

[FR Doc. 2012-22732 Filed 9-13-12; 8:45 am]

BILLING CODE 3510-22-P